NUCLEAR REGULATORY COMMISSION

[NRC-2019-0102]

Information Collection: Public Records

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, “Public Records.” NRC Form 509, “Statement of Estimated Fees for Freedom of Information Act (FOIA) Request.” NRC updated one form integral to the agency's Freedom of Information Act (FOIA) process, NRC Form 507, “Freedom of Information—Privacy Act Record Request Form.”

DATES: Submit comments by April 28, 2021. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2019-0102 when contacting the NRC about the availability of information for this action. You may obtain publicly available information related to this action by any of the following methods; however, the NRC encourages electronic comment submission through the Federal Rulemaking website:

• Federal Rulemaking Website: Go to https://www.regulations.gov and search for Docket ID NRC-2019-0102.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. NRC Form 509 and NRC Form 507 are available in ADAMS under Accession Nos. ML20203M082 and ML20203M081 respectively. The supporting statement is available in ADAMS under Accession No. ML21029A214.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC encourages electronic comment submission through the Federal Rulemaking website (https://www.regulations.gov). Please include Docket ID NRC-2019-0102 in your comment submission.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “Public Records.” The NRC hereby informs potential respondents that an agency may not conduct or sponsor, and that a person is not required to respond to, a collection of information unless it displays a currently valid OMB control number.

The NRC published a Federal Register notice with a 60-day comment period on this information collection on January 8, 2021 (86 FR 1542).

1. The title of the information collection: Part 9 of title 10 of the Code of Federal Regulations (10 CFR), “Public Records.”

2. OMB approval number: 3150-0043.

3. Type of submission: Revision.

4. The form number if applicable: NRC Form 509; NRC Form 507.

5. How often the collection is required or requested: On occasion.

6. Who will be required or asked to respond: FOIA Requesters who have requests that require pre-payment or agree to pay for the processing of their FOIA requests.

7. The estimated number of annual responses: 3,803.

8. The estimated number of annual respondents: 3,803.

9. An estimate of the total number of hours needed annually to comply with the information collection requirement or request: 2,082.

10. Abstract: The proposed information collection removes the need for requesters to provide the information they are requesting under FOIA, since it would be duplicative. NRC Form 507 will accompany acknowledgement letters, at which point we are requesting additional information, if necessary, for FOIA requesters to submit proof of identification or third-party release authorizations. Providing NRC Form 509 to a request serves as a notification of the processing fees as it relates to search, review, and duplication. Pursuant to NRC's regulations, 10 CFR 9.40, when fees exceed $25.00 the requester has the opportunity to re-scope their request. Additionally, in response to the FOIA Improvement Act of 2016, in accordance with 10 CFR 9.39, the revised form notifies the requester that if the agency fails to comply with statutory time limits, the agency cannot charge the requester any fees (except in unusual circumstances). In the event that fees are required, the requester can verify their willingness to pay on this form and must submit payment within ten working days of the receipt of the form.

Dated: March 23, 2021.
For the Nuclear Regulatory Commission.
David C. Cullison,
NRC Clearance Officer, Office of the Chief Information Officer.

[FR Doc. 2021-06342 Filed 3-26-21; 8:45 am]

BILLING CODE 7590-01-P